DEPARTMENT OF COMMERCE

Foreign-Trade Zones Board

[Docket 6-2002]

Foreign-Trade Zone 165—Midland, TX; Expansion of Manufacturing Authority—Subzone 165A; Phillips Petroleum Company, (Oil Refinery Complex), Borger, TX

An application has been submitted to the Foreign-Trade Zones Board (the Board) by Phillips Petroleum Company (Phillips), requesting authority to expand the scope of manufacturing activity conducted under zone procedures within Subzone 165A at the Phillips oil refinery complex in Borger, Texas. The application was submitted pursuant to the provisions of the Foreign-Trade Zones Act, as amended (19 U.S.C. 81a-81u), and the regulations of the Board (15 CFR part 400). It was formally filed on January 22, 2002.

Subzone 165A (130,000 BPD capacity) was approved in December 2000, subject to the Board's standard oil refinery subzone restrictions, and is located at two sites in Borger, Texas: Site 1 (6,045 acres)—main refinery complex, located at Spur 119 North, Borger; Site 2 (585 acres)—crude oil tank farm, located on Highway 136, Borger, 5 miles north of the main refinery complex. Authority was granted for the manufacture of fuel products and certain petrochemical feedstocks and refinery by-products (Board Order 1134, 65 FR 82322, 12/28/00).

The refinery is used to produce fuels and petrochemical feedstocks. The request involves a debottlenecking and expansion project which includes the construction of a crude fractionating tower within Site 1. The new facilities will increase the overall capacity of the refinery to 150,000 BPD. The feedstocks used and product slate will remain unchanged.

Zone procedures would exempt the new refinery facilities from Customs duty payments on the foreign products used in its exports. On domestic sales, the company would be able to choose the Customs duty rates for certain petrochemical feedstocks (duty-free) by admitting foreign crude oil in non-privileged foreign status. The application indicates that any additional savings from zone procedures would help improve the refinery's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.The closing period for their receipt is April 1, 2002. Rebuttal comments in response to material submitted during the foregoing period may be submitted during the subsequent 15-day period (to April 15, 2002.

A copy of the application and accompanying exhibits will be available for public inspection at the Office of the Foreign-Trade Zones Board's Executive Secretary at the first address listed above, and at the U.S. Customs Service, 10801 Airport Blvd., Amarillo, TX 79111.

Dated: January 22, 2002.
Dennis Puccinelli,
Executive Secretary.

[FR Doc. 02-2254 Filed 1-29-02; 8:45 am]

BILLING CODE 3510-DS-P